DEPARTMENT OF TRANSPORTATION

Federal Railroad Administration

Notice of Funding Opportunity for the FY 2023-FY 2024 Railroad Crossing Elimination Program

AGENCY: Federal Railroad Administration (FRA), Department of Transportation (DOT).

ACTION: Notice of funding opportunity (NOFO or Notice).

SUMMARY: This Notice details the application requirements and procedures to obtain grant funding for eligible projects under the Railroad Crossing Elimination Program for Fiscal Years (FY) 2023 and 2024. This Notice solicits applications for funds made available by the Infrastructure Investment and Jobs Act (IIJA). The opportunity described in this notice is made available under Assistance Listings Number 20.327, “Railroad Crossing Elimination.”

DATES: Applications for funding under this solicitation are due no later than 11:59 p.m. EST, September 23, 2024. Applications that are incomplete or received after 11:59 p.m. EST, on September 23, 2024 will not be considered for funding. See section D of this notice for additional information on the application process.

ADDRESSES: Applications must be submitted via www.Grants.gov. Only applicants who comply with all submission requirements described in this notice and submit applications through www.Grants.gov will be eligible for award.

FOR FURTHER INFORMATION CONTACT: For further information concerning this notice, please contact the FRA NOFO Support program staff via email at FRA-NOFO-Support@dot.gov. If additional assistance is needed, you may contact Ms. Jenny Zeng, Transportation Industry Analyst, at email: Jenny.Zeng@dot.gov or telephone: 857-330-2481; Stefani Gaede, Transportation Industry Analyst, at email: stefani.gaede@dot.gov or telephone: 202-940-8426; in FRA's Office of Rail Program Development.

SUPPLEMENTARY INFORMATION:

Notice to applicants: FRA recommends that applicants read this notice in its entirety prior to preparing application materials. Definitions of key terms used throughout the NOFO are provided in section A(2) below. These key terms are capitalized throughout the NOFO. There are several administrative and specific eligibility requirements described herein with which applicants must comply. Additionally, applicants should note that the required Project Narrative component of the application package may not exceed 25 pages in length.

Table of Contents

A. Program Description

B. Federal Award Information

C. Eligibility Information

D. Application and Submission Information

E. Application Review Information

F. Federal Award Administration Information

G. Federal Awarding Agency Contacts

H. Other Information

Summary Overview of Key Information: Railroad Crossing Elimination Program (RCE)
Issuing Agency | Federal Railroad Administration, U.S. Department of Transportation.
Program Overview | The purpose of the RCE Program is to fund highway-rail or pathway-rail grade crossing improvement projects that focus on improving the safety and mobility of people and goods.
Eligible Applicants | • A State (including the District of Columbia Puerto Rico, and other United States territories and possessions).
| • A political subdivision of a State.
| • A federally recognized Indian Tribe.
| • A unit of local government or a group of local governments.
| • A public port authority.
| • A metropolitan planning organization.
| • A group of entities included above.
Eligible Project Types | • Grade separation or closure, including through the use of a bridge, embankment, tunnel, or combination thereof.
| • Track relocation.
| • The improvement or installation of protective devices, signals, signs, or other measures to improve safety, provided that such activities are related to a separation or relocation project described above.
| • Other means to improve the safety and mobility of people and goods at highway-rail grade crossings (including technological solutions).
| • A group of related projects described above that would collectively improve the mobility of people and goods.
| • The planning, environmental studies, and final design for a project or group of projects described above.
Funding | The total funding available for awards under this NOFO is up to $1,148,809,580.
Deadline | Deadline: No later than 11:59 p.m. EST, September 23, 2024.

A. Program Description

1. Overview

The RCE Program provides a federal funding opportunity to fund highway-rail or pathway-rail grade crossing improvement projects that focus on improving the safety and mobility of people and goods. Such projects will improve American rail infrastructure to enhance rail safety, improve the health and safety of communities, eliminate highway-rail and pathway-rail grade crossings that are frequently blocked by trains, and reduce the impacts that freight movement and railroad operations may have on underserved communities.

The purpose of this NOFO is to solicit applications for projects through the competitive RCE Program, which is authorized by the Infrastructure Investment and Jobs Act (IIJA), Sec. 22104, Public Law 117-58 (November 15, 2021), and funded by the 2023 and 2024 advance appropriations in Title VIII of Division J of the IIJA. This NOFO describes funding available, application submission requirements, and the selection and evaluation criteria for projects under the RCE Program. The RCE Program requirements are codified at 49 U.S.C. 22909.

This NOFO integrates FRA's Guidance on Development and Implementation of Railroad Capital Projects (Jan. 12, 2023, 88 FR 2163) (FRA's Capital Projects Guidance), which assists project sponsors in developing effective and complete capital projects by defining the project development process and describing implementation tools, processes, and documentation that may be required for a grant. FRA's Capital Projects Guidance can be found here: https://railroads.dot.gov/elibrary/fra-guidance-development-and-implementation-railroad-capital-project.

In December 2023, FRA updated its standard grant agreement terms and conditions. The new FRA grant agreement consists of three parts: Attachment 1: Standard Terms and Conditions, Attachment 2: Project-Specific Terms and Conditions, and Terms and Conditions Exhibits. The updated agreements are available at: https://railroads.dot.gov/grants-loans/fra-discretionary-grant-agreements.

DOT seeks to fund projects that advance the Administration Priorities of safety, equity, climate and sustainability, workforce development, job quality, and wealth creation as described in the U.S. Department of Transportation (DOT) Strategic Plan,¹ and in executive orders, which are described in section E.

¹ Additional information about the USDOT Strategic Plan, Research, Development and Technology Strategic Plan can be found here: https://www.transportation.gov/dot-strategic-plan.

2. Definitions of Key Terms

Terms defined in this section are capitalized throughout this notice.

a. “Capital Project” means a project for acquiring, constructing, improving, or inspecting rail equipment, track and track structures, or a rail facility, including expenses incidental to the acquisition or construction including pre-construction activities (such as designing, engineering, location surveying, mapping, acquiring rights-of-way) and related relocation costs,² environmental studies, and all work necessary for FRA to consider the effects of the proposed project under the National Environmental Policy Act; Highway-Rail Grade Crossing improvements; communication and signalization improvements; and rehabilitating, remanufacturing, or overhauling rail rolling stock and rail facilities.

² FRA will consider right-of-way acquisition only if it is included in an application also seeking Construction funding.

b. “Commuter Rail Passenger Transportation” means short-haul rail passenger transportation in metropolitan and suburban areas usually having reduced fare, multiple rides, and commuter tickets, and morning and evening peak period operations, consistent with 49 U.S.C. 24102(3); the term does not include rapid transit operations in an urban area that are not connected to the general railroad system of transportation.

c. “Construction” means the Lifecycle Stage of a Capital Project during which the Capital Project is completely built, installed, and placed in use. Construction activities include, but are not limited to, physical construction and installation of the Capital Project, including testing of equipment, workforce training, and start-up testing. Construction activities occur after a project has completed Final Design. Construction is described in FRA's Capital Projects Guidance.

d. “Final Design” or “FD” means the Lifecycle Stage of a Capital Project during which the Capital Project design is advanced to be ready for Construction. This is when the agreements necessary to construct and operate the Capital Project are secured, acquisition of right-of-way is completed, and final engineering plans and specifications necessary for the construction of the project are produced. Final Design activities occur after a Capital Project has completed Project Development, and before a Capital Project can advance to Construction. Final Design is described in FRA's Capital Projects Guidance.

e. “Grade Separation or Closure” means an underpass or overpass to eliminate level crossings between railroad and highway users at an existing highway-rail or pathway-rail grade crossing, or the closing of a highway-rail grade crossing to vehicular or pedestrian traffic.

f. “Highway-Rail Grade Crossing” means a location where a public highway, road, street, or private roadway, including associated sidewalks and pathways, crosses one or more railroad tracks at grade.

g. “Improvement Project” means a project related to an existing highway or pathway-rail crossing including: installation, repair, or improvement of crossings, grade separations, railroad crossing signals, gates, bells, audible warning devices and related technologies; highway traffic signalization, lighting, crossing approach signage, and roadway improvements such as medians or other barriers; pathway improvements such as bollards; railroad crossing panels and surfaces; and other safety engineering improvements, or highway-rail programs to reduce risk.

h. “Intercity Rail Passenger Transportation” means rail passenger transportation, except Commuter Rail Passenger Transportation, see 49 U.S.C. 22901(3), and in this NOFO, it has the same meaning as “Intercity Passenger Rail Service” and “Intercity Passenger Rail Transportation.”

i. “Lifecycle Stage” means each of the consecutive stages of a Capital Project as it is developed and implemented that include Systems Planning, Project Planning, Project Development, Final Design, Construction, and Operation. Each sequential stage involves specific activities. Lifecycle Stages are described in FRA's Capital Projects Guidance.

j. “Major Project” means a Capital Project with a capital cost estimate equal to or greater than $500 million and with at least $100 million in federal assistance under the Railroad Crossing Elimination Program. Major Project is described in FRA's Capital Project Guidance.

k. “National Environmental Policy Act” or “NEPA” (42 U.S.C. 4321 et seq.) is a federal law that requires federal agencies to analyze and document the environmental impacts of a proposed action in consultation with appropriate federal, tribal, state, and local authorities, and with the public. Environmental Review under NEPA consists of an Environmental Impact Statement (EIS), Environmental Analysis (EA) or Categorical Exclusion (CE). The NEPA class of action depends on the potential environmental impacts of the proposed action. For purposes of this NOFO, NEPA also includes all related federal laws and regulations including the Clean Air Act, section 4(f) of the Department of Transportation Act, section 7 of the Endangered Species Act, and section 106 of the National Historic Preservation Act. Additional information regarding FRA's environmental processes and requirements is located at https://railroads.dot.gov/rail-network-development/environment/environment. NEPA consultation and documentation are considered part of the Project Development Lifecycle Stage, as described in FRA's Capital Projects Guidance.

l. “Pathway-Rail Grade Crossing” means a pathway that crosses one or more railroad tracks at grade and that is: (1) explicitly authorized by a public authority or a railroad; (2) dedicated for the use of non-vehicular traffic, including pedestrians, bicyclists, and others; and (3) not associated with a public highway, road, or street, or a private roadway.

m. “Preliminary Engineering” or “PE” means engineering design to define a Capital Project, including identification of all environmental impacts and design of all critical project elements at a level sufficient to ensure reliable cost estimates and schedules. The PE development process starts with specific project design alternatives that allow for the assessment of a range of rail improvements, specific alignments, and project designs. PE is considered part of the Project Development Lifecycle Stage, as described in FRA's Capital Projects Guidance.

n. “Project Development” means the Lifecycle Stage of a Capital Project during which the project sponsor conducts design, environmental, and other studies to ensure the project is ready for implementation. Project Development activities occur after a project has completed Project Planning, and before a Capital Project can advance to Final Design. Project Development is described in FRA's Capital Projects Guidance.

o. “Project Management Plan” means, under this NOFO, a document that describes how the Capital Project will be implemented, monitored, and controlled to help the project sponsor effectively, efficiently, and safely deliver the project on-time, within budget, and at the highest appropriate quality. Project Management Plan is described in FRA's Capital Projects Guidance.

p. “Project Planning” is the first Lifecycle Stage of a Capital Project during which the project sponsor identifies Capital Project concepts to adequately address transportation needs and opportunities; identifies and compares costs, benefits, and impacts of project options; identifies the impacted environmental resources; and engages with interested parties, agencies, and infrastructure owners. Project Planning activities are completed before a Capital Project advances to Project Development. Project Planning is described in FRA's Capital Projects Guidance.

q. “Rural Area” means any area that is not within an area designated as an urbanized area by the most recent Bureau of the Census.

r. “Track Relocation” means moving a rail line vertically or laterally to a new location in order to eliminate an existing Highway-Rail Grade Crossing. “Vertical Relocation” refers to raising above the current ground level or sinking below the current ground level of a rail line. “Lateral Relocation” refers to moving a rail line horizontally to a new location.

s. “Tribal Lands” means any lands reserved for a federally recognized Native American tribe or tribes under treaty or other agreement with the United States, executive order, or federal statute or administrative action as permanent tribal homelands, and where the federal government holds title to the land in trust on behalf of the tribe.

B. Federal Award Information

1. Available Award Amount & Special Funding Set-Asides

The total funding available for awards under this NOFO is up to $1,148,809,580, made available by the FY 2023 and 2024 advance appropriations provided in Title VIII of Division J of IIJA and by remaining unawarded FY 2022 RCE Program balances.³ Should additional RCE Program funds become available after the release of this NOFO, FRA may elect to award such additional funds to applications received under this NOFO. Any selection and award under this NOFO are subject to the availability of appropriated funds.

³ $1,146,528,000 in combined FY 2023-2024 supplemental appropriations ($573,264,000 each year) are provided by Title VIII of Division J of IIJA, as well as $2,281,580 in carryover FY 2022 supplemental appropriations from Title VIII of Division J of IIJA. This creates a total of $1,148,809,580 available.

Further, of the available award amount listed above, certain funding amounts are set-aside for the following purposes under this NOFO:

a. Planning Projects—At least three percent of the total FY 2023-2024 RCE Program grant funds available, or $36,000,000, as well as $2,281,580 in FY 2022 RCE funds, will combine to make $38,281,580 available for planning projects described in 49 U.S.C. 22909(d)(6). Of these funds, $10,840,000 (which includes $1,840,000 in FY 2022 carryover funds) will be made available for planning projects located in Rural Areas or on Tribal Lands. Further, FRA specifically expects to support planning projects that seek to advance efforts to grade separate at least one or more at-grade crossings. Planning projects are also subject to special considerations for award size and preference, as detailed in the following section 2(a).

b. Rural or Tribal set-aside—At least 20 percent of the total FY 2023-2024 RCE Program grant funds available, or $229,305,600, will be made available for projects located in Rural Areas or on Tribal Lands, as required by 49 U.S.C. 22909(f)(3)(A).⁴ At least five percent of these set-aside funds, or $11,465,280, will be made available for projects in counties with 20 or fewer residents per square mile, according to the most recent decennial census, provided that sufficient eligible applications have been submitted.

⁴ FRA awarded all of the FY 2022 Rural or Tribal set-aside to eligible applicants. No additional set-aside funds are carried forward to FY 2023-2024.

c. In addition, FRA will make at least $3,000,000 available for grants that carry out Highway-Rail Grade Crossing safety information and education programs. FRA expects that activities to promote further awareness of grade crossing safety will be based on existing best practices and such efforts will be implemented in a comprehensive manner through coordination with relevant stakeholders.

2. Award Size

FRA anticipates making multiple awards with the available funding. FRA may not be able to award grants to all eligible applications even if they meet or exceed the stated evaluation criteria (see section E, Application Review Information). FRA strongly encourages applicants to seek funding for the appropriate Lifecycle Stage of a Capital Project, consistent with the application tracks in section C(3)(c) below. Where an application includes multiple Lifecycle Stages of a Capital Project, FRA may decide to only award funds for what it determines is the appropriate Lifecycle Stage.

In addition, projects may require more funding than is available. FRA encourages applicants to propose a project that has operational independence, or a component of such project, which can be completed and implemented with funding under this NOFO as a part of the total project cost together with other, non-federal sources. (See section C(3)(c) for more information). There are no predetermined maximum dollar thresholds for individual awards, but no more than 20 percent of the grant funds available ($229,761,916 total from both FY 2023-2024 funding and FY 2022 carryover funds) will be awarded for projects in any single State.

Applicants are not limited in the number of projects for which they seek funding. Applicants submitting more than one application are requested to submit a priority ranking of their submitted applications that is consistent with each application package submitted.

a. Award Minimums and Planning Exception

FRA will not award grants for less than $1,000,000, except for a Planning project, as described in 49 U.S.C. 22909(d)(6). Projects requesting less than $1,000,000 must consist solely of Planning activities (Planning is defined in section A.3.n of this NOFO) to be considered eligible. Applications that request funding for a combination of Planning and Project Development activities must exceed $1,000,000 in federal assistance under this NOFO.

3. Award Type

FRA will make awards for projects selected under this notice through grant agreements and/or cooperative agreements. Grant agreements are used when FRA does not expect to have substantial federal involvement in carrying out the funded activity. Cooperative agreements allow for substantial federal involvement in carrying out the agreed upon investment, including technical assistance, review of interim work products, and increased program oversight. The term “grant” is used throughout this document and is intended to reference funding awarded through a grant agreement or a cooperative agreement.

The funding provided under this NOFO will be made available to grantees on a reimbursable basis. Applicants must certify that their expenditures are allowable, allocable, reasonable, and necessary to the approved project before seeking reimbursement from FRA. Additionally, the grantee is expected to expend matching funds at the required percentage concurrent with federal funds throughout the life of the project.

The new FRA grant agreement consists of three parts: Attachment 1: Standard Terms and Conditions, Attachment 2: Project-Specific Terms and Conditions, and Terms and Conditions Exhibits. The grant agreement templates are available at: https://railroads.dot.gov/grants-loans/fra-discretionary-grant-agreements. These templates are subject to revision.

4. Concurrent Applications

DOT and FRA may concurrently solicit applications for transportation infrastructure projects for several financial assistance programs. Applicants may submit applications requesting funding for a particular project to one or more of these programs. In the application for funding under this NOFO, applicants must indicate the other program(s) to which they submitted an application for funding the entire project or certain components, as well as highlight new or revised information in the application responsive to this NOFO that differs from the previously submitted application(s).

C. Eligibility Information

This section of the notice explains applicant eligibility, cost sharing and matching requirements, project eligibility, and project component operational independence. Applications that do not meet the requirements in this section are ineligible for funding. Instructions for submitting eligibility information to FRA are detailed in section D of this NOFO.

1. Eligible Applicants

The following entities are eligible applicants for all projects permitted under this notice:

a. A State (including the District of Columbia, Puerto Rico, and other United States territories and possessions).

b. A political subdivision of a State.

c. A federally recognized Indian Tribe.

d. A unit of local government or a group of local governments.

e. A public port authority.

f. A metropolitan planning organization.

g. A group of entities described in any of paragraphs (a) through (f).

The applicant serves as the primary point of contact for the application, and if selected, as the recipient of the RCE Program grant award. An application may identify entities that are not eligible applicants as project partners.

2. Cost Sharing and Matching

The federal share of total costs for RCE Program projects funded under this NOFO may not exceed 80 percent. The estimated total cost of a project must be based on the best available information, including engineering studies, studies of economic feasibility, environmental analyses, and information on the expected use of equipment and/or facilities. Additionally, in preparing estimates of total project costs, applicants are encouraged to use FRA's cost estimate guidance documentation, “Capital Cost Estimating: Guidance for Project Sponsors,” which is available at: https://www.fra.dot.gov/Page/P0926. Project sponsors should account for the impact of factors such as inflation as the applicant prepares their scope, schedule, and budget.

The minimum 20 percent non-federal share may be comprised of public sector (e.g., State or local) or private sector funding. FRA will not consider any federal financial assistance, or any non-federal funds already expended (or otherwise encumbered) toward the matching requirement, unless such sources are compliant with 2 CFR part 200. In-kind contributions, including the donation of services, materials, and equipment, may be credited as a project cost in a uniform manner consistent with 2 CFR 200.306. In addition, applicants may count costs incurred for Preliminary Engineering associated with Highway-Rail Grade Crossing and Pathway-Rail Grade Crossing Improvement Projects as part of the total project costs. Such costs are eligible as non-federal share or for reimbursement, even if they were incurred before project selection for award, consistent with 49 U.S.C. 22909(g). Such costs must have been incurred no earlier than November 15, 2021, and must be otherwise compliant with 2 CFR part 200 and the requirements of this RCE Program.

Funding under this NOFO may not be used for costs that are included in or used to meet cost sharing or matching requirements of any other federally financed award or program. If the applicant is seeking additional funding for a project that has already received federal financial assistance, costs associated with the scope of work for the existing federal award are not eligible for funding under this NOFO. Only new scope elements/activities (e.g., new deliverables) are eligible for funding under this NOFO.

Before applying, applicants should carefully review the principles for cost sharing or matching in 2 CFR 200.306. See section D(2)(a)(iii) of this NOFO for required application information on non-federal match and section E for further discussion of FRA's consideration of matching funds in the review and selection process. FRA will approve pre-award costs incurred after announcement of awards consistent with 2 CFR 200.458, as applicable. See section D(6). Cost sharing or matching may be used only for eligible expenses for authorized Federal award purposes.

All contracts for projects financed with federal funds will be subject to applicable federal requirements. Applicants that have entered into contracts for a proposed project prior to award must ensure that applicable federal requirements are included in the contract in the event the project is selected and federal funds are obligated.

3. Eligible Projects

a. The Following Are Eligible Under This NOFO

The following Highway-Rail or Pathway-Rail Grade Crossing Improvement Projects (including acquiring real property interests) that focus on improving the safety and mobility of people and goods are eligible for funding under 49 U.S.C. 22909(d) and this NOFO:

i. Grade separation or closure, including through the use of a bridge, embankment, tunnel, or combination thereof;

ii. Track Relocation;

iii. The improvement or installation of protective devices, signals, signs, or other measures the improve safety, provided that such activities are related to a separation or relocation project described in paragraph (i) or (ii);

iv. Other means to improve the safety and mobility of people and goods at highway-rail grade crossings (including technological solutions); ⁵

⁵ Highway-Rail Grade Crossing Safety Information and Education Programs are eligible under this category. FRA generally interprets this project eligibility category to relate to projects that directly improve safety and mobility at existing at-grade crossing locations.

v. A group of related projects described in paragraphs (i) through (iv) that would collectively improve the mobility of people and goods; or

vi. The planning, environmental review, and design of an eligible project described in paragraphs (i) through (v).

Consistent with 49 U.S.C. 22909(j)(1), grants under the RCE Program are not subject to the limitation in 49 U.S.C. 22905(f) and may therefore be awarded for commuter rail passenger transportation projects. Consistent with 49 U.S.C. 22909(j)(2), FRA will transfer such projects to the Federal Transit Administration to administer.

b. Project Component

If an applicant requests funding for a component or set of components of a larger Capital Project, the project component(s) included in the application must be attainable with the award amount and comply with all eligibility requirements described in section C. In addition, the component(s) must enable independent analysis and decision making, as determined by FRA, under NEPA (i.e., have independent utility, connect logical termini, and not restrict the consideration of alternatives for other reasonably foreseeable rail projects).

c. Application Tracks

Applicants are not limited in the number of projects for which they seek funding. FRA generally evaluates applications in Tracks based on the Lifecycle Stages of a Capital Project. While applications covering multiple Lifecycle Stages are not precluded, FRA generally expects that applications identify only one of the following tracks for an eligible proposed project:

• Track 1—Project Planning;

• Track 2—Project Development;

• Track 3—Final Design (FD)/Construction.

FRA strongly encourages applicants to seek funding for the appropriate Lifecycle Stage of a Capital Project, consistent with these application tracks. To the extent possible, applicants should describe their projects consistent with FRA's Capital Projects Guidance, which provides a detailed description of each Lifecycle Stage and its required activities: https://railroads.dot.gov/elibrary/fra-guidance-development-and-implementation-railroad-capital-project.

If an application seeks funding under more than one application Track for multiple Lifecycle Stages, FRA may award funds for the application Track and corresponding Lifecycle Stage(s) it determines most appropriate based on project readiness information. Applicants are directed to identify the project components and estimated amount of federal funding requested for each Lifecycle Stage. If an application selected for award includes multiple Lifecycle Stages, FRA will require the grantee to complete the Lifecycle Stages in the order consistent with FRA's Capital Projects Guidance.

i. Track 1—Project Planning: Track 1 consists of Project Planning specific to an eligible Capital Project. Example activities for Project Planning include: the development of a purpose and need statement; completion of conceptual engineering and other design; documentation showing that project alternatives were considered; completion of an environmental resource inventory and potential environmental concerns analysis; scale design drawings; public and stakeholder involvement; completion of an order-of-magnitude project cost estimate; and for Major Projects, completion of an initial Project Management Plan. Project Planning projects funded under this NOFO must be sufficiently developed when complete to support Project Development activities.

FRA strongly encourages Track 1 Planning projects given the RCE Program's dedicated set-aside funding for planning activities. Please note that, pursuant to 49 U.S.C. 22909(d)(6), the minimum award requirement of $1,000,000 does not apply to applications for awards that fund only activities consistent with the Project Planning Lifecycle Stage. Consistent with Section A.2 of this NOFO, FRA intends to prioritize Planning projects that seek to grade separate one or more grade crossings.

ii. Track 2—Project Development: Track 2 consists of projects for eligible Project Development activities. Example activities include: completion of PE and architectural or other design; PE drawings and specifications (scale drawings at the 30 percent design level, including track geometry as appropriate); design criteria, schematics and/or track charts that support the development of PE; work that can be funded in conjunction with developing PE, such as operations modeling, surveying, project work/management plans, preliminary cost estimates, and preliminary project schedules; completion of environmental review; and completion of applicable project management documentation (such as a Project Management Plan, schedule, capital cost estimate, and financial plan). Project Development projects funded under this NOFO must first demonstrate completion of Project Planning elements prior to Project Development funds being awarded and be sufficiently developed when complete to support FD or Construction activities.

iii. Track 3—Final Design (FD)/Construction: Track 3 consists of projects for eligible FD and Construction activities. Applicants must complete all necessary Planning and Project Development stages, including PE and NEPA requirements, prior to moving to the FD/Construction stage of a project. FD activities may include completion of the FD documentation, acquisition of right-of-way,⁶ resolving remaining uncertainties or risks associated with changes to the design and scope of the Capital Project; addressing procurement processes; and updating/completing the applicable project management documentation (such as a Project Management Plan, schedule, capital cost estimate, and financial plan).⁷ Construction activities may include physical construction and installation of the Capital Project, including procurement and manufacturing of vehicles and equipment, project administration, testing of equipment (e.g., signal equipment and rolling stock), systems integration testing, workforce training, system certification, procurement of insurance, provision of warrantees, pre-revenue service, and start-up testing. Prior to obligation, applicants selected for funding for FD/Construction must demonstrate completion of applicable Systems Planning and Project Planning and Project Development activities, consistent with FRA's Capital Projects Guidance.

⁶ FRA will only award funds for right-of-way (ROW)/property acquisition activities if the proposed project also includes construction activities consistent with the Construction Lifecycle Stage. FRA will not fund ROW acquisition activities independently or if proposed project only includes pre-construction activities or Lifecycle Stages (i.e., Project Planning, Project Development, or Final Design).

⁷ Applicants selected for funding are encouraged to submit the following before obligation: an updated Project Management Plan (including a schedule, capital cost estimate, and financial plan), as grantees will be expected to develop a Project Management Plan under the grant agreement. See FRA's Capital Projects Guidance, Section V—Project Management for additional information.

d. Rural or Tribal Lands Project

FRA will consider a project to be in a Rural Area or on Tribal Lands if all or the majority of the project (determined by geographic location(s) where the majority of the project funds will be spent) is located in a Rural Area or on Tribal Lands. However, in the event FRA elects to fund a component of the project, then FRA will reevaluate whether the project is in a Rural Area or on Tribal Lands.

D. Application and Submission Information

Required documents for the application are outlined in the following paragraphs. Applicants must complete and submit all components of the application for the application to be reviewed by FRA. An applicant that fails to submit all required documentation prior to the closing period of the notice may have its application deemed incomplete and will not advance to evaluation review. See section D(2) for the required documents and information for an application package. FRA welcomes the submission of additional relevant supporting documentation, such as planning, engineering, and design documentation, and letters of support from partnering organizations, which will not count against the Project Narrative 25-page limit.

1. Address To Request Application Package

Applicants may access application materials at https://www.Grants.gov and must submit all application materials in their entirety through https://www.Grants.gov no later than 11:59 p.m. EST, on September 23, 2024. Applicants must complete an Authorized Organization Representative (AOR) profile on www.Grants.gov and create a username and password. Additional information about the registration process is available at: https://www.grants.gov/applicants/applicant-registration.

Applicants are strongly encouraged to apply early to ensure that all materials are received before the application deadline. FRA reserves the right to modify this deadline. General information for submitting applications through Grants.gov can be found at: https://www.fra.dot.gov/Page/P0270. FRA is committed to ensuring that information is available in appropriate alternative formats to meet the requirements of persons who have a disability. If you require an alternative version of files provided or paper copies of materials, please contact Ms. Laura Mahoney, Office of the Chief Financial Officer, Federal Railroad Administration, 1200 New Jersey Avenue SE, Washington, DC 20590; email: laura.mahoney@dot.gov; or telephone: 202-578-9337.

The E-Biz point of contact (E-Biz POC) at the applicant's organization must respond to the registration email from Grants.gov and login at www.Grants.gov to authorize the applicant as the AOR. Please note there can be more than one AOR for an organization.

⁸ The amount requested from the RCE program on the SF-424 is the official record of request, and therefore must be consistent with the amount requested in the Project Narrative and Statement of Work documents, including the breakdown of Federal and non-Federal sources. For applications with discrepancies, FRA will defer to the funding amount in the SF-424.

If an applicant has difficulty at any point during this process, please call the Grants.gov Customer Center Hotline at 1-800-518-4726, 24 hours a day, 7 days a week (closed on federal holidays). For information and instructions on each of these processes, please see instructions at: https://www.grants.gov/support.

2. Content and Form of Application Submission

FRA strongly advises applicants to read this section carefully. Applicants must submit all required information and components of the application package to be considered for funding. Applications that are not submitted on time or do not contain all required documentation will not be considered for funding. To support the application, applicants may provide additional relevant and available optional supporting documentation that may have been developed by the applicant, especially such documentation that provides evidence of completion of the appropriate Lifecycle Stage(s) of a Capital Project. Additionally, applicants selected to receive funding must satisfy the requirements in 49 U.S.C. 22903 and 22905, including FRA's Buy America requirement and conditions explained in part at https://www.fra.dot.gov/page/P0185 and further in section F.2 of this notice.

Required documents and information for an application package include the following:

Application information | NOFO section for guidance
Project Narrative | See D.2.a.
Statement of Work (SOW), project budget, estimated project schedule, and performance measures | See D.2.b.i.
Environmental Compliance Documentation | See D.2.b.ii.
Draft Agreement required under 49 U.S.C 22905(c)(1), if applicable | See D.2.b.iii.
SF 424—Application for Federal Assistance ⁸ | See D.2.b.iv.
SF 424A—Budget Information for Non-Construction or SF 424C—Budget Information for Construction | See D.2.b.v.
SF 424B—Assurances for Non-Construction or SF 424D—Assurances for Construction | See D.2.b.vi.
FRA's F 30—Certifications Regarding Debarment, Suspension and Other Responsibility Matters, Drug-Free Workplace Requirements and Lobbying | See D.2.b.vii.
FRA F 251—Applicant Financial Capability Questionnaire | See D.2.b.viii.
SF LLL—Disclosure of Lobbying Activities, if applicable | See D.2.b.ix.

a. Project Narrative

This section describes the minimum content the applicant is required to provide in the Project Narrative section of the grant application. The Project Narrative must follow the basic outline below to address the program requirements and assist evaluators in locating relevant information.

I. Cover Page | See D.2.a.i.
II. Project Summary | See D.2.a.ii.
III. Grant Funds, Sources and Uses of Project Funds | See D.2.a.iii.
IV. Applicant Eligibility Criteria | See D.2.a.iv.
V. Project Eligibility Criteria | See D.2.a.v.
VI. Detailed Project Description | See D.2.a.vi.
VII. Highway-Rail Grade Crossing Safety Information and Education Programs | See D.2.a.vii.
VIII. Project Location | See D.2.a.viii.
IX. Grade Crossing Information | See D.2.a.ix.
X. Safety Benefit | See D.2.a.x.
XI. Evaluation and Selection Criteria | See D.2.a.xi.
XII. Project Implementation and Management | See D.2.a.xii.

The applicant must provide the content listed above in a narrative statement. The Project Narrative may not exceed 25 pages in length (excluding cover pages, table of contents, and supporting documentation). When possible, applicants should submit supporting documents via website links rather than hard copies. If supporting documents are submitted, applicants must clearly identify the relevant portion of the supporting document with the page numbers of the cited information in the Project Narrative. The Project Narrative must adhere to the following outline.

i. Cover Page: include a cover page that lists the following elements in either a table or formatted list:

Project Title
Applicant Name
FUNDING
Amount of RCE Program Funding Requested under this NOFO | $:
Amount of Proposed Non-Federal Match | $:
Does some or all of the proposed Non-Federal Match for the total project cost consist of Preliminary Engineering costs incurred before project selection (but after November 15, 2021)? | If yes, how much?
Other Sources of Federal funding, if applicable | Provide funding source and amount $:
Source(s) of Proposed Non-Federal Match
If applicable, are set-aside funds requested? Is the project eligible for a funding set-aside in Section B.1? | Yes/No. If yes, please specify which one [Planning Projects, Safety Information and Education Program, Rural or Tribal Set-Aside].
If “Yes,” amount of set-aside funds requested: | $:
Total Project Cost | $:
PREVIOUS FEDERAL GRANTS
Was a Federal Grant Application Previously Submitted for this Project? | Yes/No. If yes, please specify the program, funding year and project title of the previous application, and identify any differences between the applications.
LOCATION
City(ies), County(ies), State(s) Where the Project is Located
Is the Project Located in a Rural Area or on Tribal Lands? | Yes/No.
If the Project is located in a Rural Area or Tribal Land, is the Project Located in a county with 20 or fewer residents per square mile, according to the most recent decennial census? | Yes/No.
Congressional District(s) Where the Project is Located
APPLICATION TRACKS/PROJECT LIFECYCLE STAGES
Application Track(s) proposed to be funded by this NOFO?
Lifecyle Stage(s) proposed to be funded by this NOFO?
Current Lifecycle Stage and Anticipated completion of current Lifecycle Stage?
RAIL LINE INFORMATION
Is the Project located on real property owned by someone other than the applicant? | Yes/No. If yes, list real property owners and the nature of the property interest.
Host Railroad/Infrastructure Owner(s) of Project Assets;
Other impacted Railroad(s)
Tenant Railroad(s), if applicable
If applicable, is a 49 U.S.C. 22905-compliant Railroad Agreement executed or pending? | Yes/No/Pending.
PLANNING CONSIDERATIONS
Is the project currently programmed in ANY medium- or long-range planning document: For example, State rail plan, or interregional intercity passenger rail systems planning study, State Freight Plan, TIP, STIP, MPO Long Range Transportation Plan, State Long Range Transportation Plan, etc.? | Yes/No. If yes, please specify.
Is the project located on a potential corridor selected for the Corridor Identification and Development Program? ⁹ | Yes/No. If yes, please specify the corridor(s).

ii. Project Summary: Provide a brief 4-6 sentence summary of the proposed project. Include challenges the proposed project aims to address and summarize the intended outcomes and anticipated benefits that will result from the proposed project.

⁹ For more information about selected Corridors under the Corridor Identification Program, please visit: https://railroads.dot.gov/elibrary/fy22-CID-program-selections.

iii. Grant Funds, Sources and Uses of Project Funds: Project budgets should show how different funding sources will fund project activities and present the data in dollars and percentages. The budget should identify other federal funds the applicant is applying for or has been awarded, if any, or intends to use. Funding sources should be grouped into three categories: RCE request, non-federal, and other federal with specific amounts for each funding source. If other federal funding is proposed as match, demonstrate the applicant's determination of eligibility for such use, and the legal basis for that determination. If federal funding for the project is currently or has previously been sought, identify the federal program and fiscal year of the funding request(s), as well as highlight new or revised information in the application responsive to this NOFO that differs from the application(s) to other financial assistance programs.

As shown in the table format below, the applicant should indicate the amount in dollars and percentages of RCE Program funding requested, the amount of non-federal match, source(s) for all non-federal match,¹⁰ other federal funds (if applicable), and the total project cost. FRA may not award more funding for a project than is requested in an application.

¹⁰ Applicants should submit evidence of the availability of non-Federal funds, which may include a board resolution, letter of support from the State, a budget document highlighting the line item or section committing funds to the proposed project. The applicant may provide this documentation in an appendix. Documentation of previous and recent local investments in the project may evidence of local financial commitment project, but cannot be used to satisfy non-Federal matching requirements. Any funding commitment letters must be signed by an authorized representative of the entity providing a non-Federal match.

The applicant should itemize funding by project Lifecycle Stage(s) and by project activity. For a Major Project, applicants are encouraged to provide an annualized budget in year of expenditure dollars. Project budget information must be consistent throughout all application materials, specifically the Standard Form (SF) 424, Project Narrative, Statement of Work, and funding commitment letters.¹¹ The project budget should be specific to the project scope described in the applicant's request for funding under this NOFO. If the project proposed to be funded under this NOFO is part of a larger scope, the applicant may reference the larger scope in the Project Narrative but should only include the project scope proposed to be funded under this NOFO within the budget table.

¹¹ If there is a discrepancy between materials, FRA will defer to the funding amounts shown in the applicant's SF 424 as the amount requested for funding.

If applicable, the applicant should explain if the RCE Program request or other funds must be obligated or spent by a certain date.

If applicable, the applicant should provide the type and estimated value of any proposed in-kind contributions, as well as explain how the contributions meet the requirements in 2 CFR 200.306. If the applicant is requesting set-aside funds per section B(1), identify the dedicated activities and amount requested within the budget table.

Example Project Funding Table: Applicants may use the following table to describe project funding, and may use additional rows and columns, or additional project funding tables, as appropriate.

Task No. | Task name project component | Cost | Percentage of total cost | Source of funds and citation, as applicable
1
2
Total Project Cost
Federal Funding Requested in this Application (RCE Program Request)
Total Non-Federal Match
Non-Federal Funding (State) | Cash:
| In-Kind:
Non-Federal Funding (Private Sector) | Cash:
| In-Kind:
Non-Federal Federal Funding (Local) | Cash:
| In-Kind:
Other Committed Federal Funding ¹² (e.g., Federal Highway Administration, congressionally directed/earmark, other FRA grant program funds—including previous RCE grants, etc.) Note: If there are multiple sources of other federal funding, please break funding down by each source
Other Pending Federal Funding Requests ¹³
Amount (if any) of funding request eligible for set-aside funds as described in section B(1) (Planning, Rural/Tribal set-aside, or Highway-Rail Grade Crossing safety information and education programs)
Portion of Total Project Costs Spent in a Rural Area, if applicable
Does some or all the proposed Non-Federal Match for the total project cost consist of Preliminary Engineering costs incurred before project selection (but after November 15, 2021)? ¹⁴ | If yes, how much?

iv. Applicant Eligibility Criteria: In this section, the applicant must explain how it meets the applicant eligibility criteria outlined in section C of this NOFO and include citations to appropriate authorities that demonstrate the applicant's eligibility to receive federal funds. For example, if the applicant is a political subdivision of a State, public agency or publicly chartered authority established by one or more States, the applicant should provide relevant legislative language, including citations to the applicable enabling legislation, that demonstrate the applicant's legal status. Applicants that fail to adequately demonstrate their legal status may be found ineligible and their application will not be reviewed.

¹² For other Federal funding sources proposed as match, the applicant should explain why the Federal funds are eligible as match and the legal basis for that determination.

¹³ For other Federal funds that will be used for the project, the applicant should identify the Federal program and fiscal year of the funding request(s), as well as highlight new or revised information in the application responsive to this NOFO that differs from the application(s) to other financial assistance programs.

¹⁴ If seeking to use Preliminary Engineering costs as match for a Highway-Rail and Pathway-Rail Grade Crossing Improvement Project or trespassing prevention projects, please identify the costs incurred before project selection (but after November 15, 2021).

v. Project Eligibility Criteria: Explain how the proposed project meets the project eligibility criteria in section C(3) of this NOFO.

vi. Detailed Project Description: In this section, the applicant must provide a detailed project description that expands upon the brief project summary. This detailed description should provide, at a minimum: additional background on the challenges the project aims to address; a summary of current and proposed railroad operations in the project area and service frequency, which should include identification of all railroad owners and operators; typical daily, weekly, or annual train counts by operator; the primary expected project outcomes such as increased safety outcomes or reduced delays, improved rail network asset condition and performance, or similar outcomes and benefits; the expected users and beneficiaries of the project, including all railroad operators; the specific components and elements of the project; and any other information the applicant deems necessary to justify the proposed project. Applicants should specify whether the project will result in the elimination of one or more grade crossings. Provide detailed descriptions on the proposed improvement to each grade crossing included in the application. For all projects, applicants must provide information about proposed performance measures, as described in section F(3) and required in 2 CFR 200.301.

vii. Highway-Rail Grade Crossing Safety Information and Education Programs: For these projects, specify how the program will enhance education and informational outreach to help prevent and reduce pedestrian, motor vehicle and other accidents, incidents, injuries, and facilities, and how the program will help improve awareness along railroad rights-of-way and at Highway-Rail Grade Crossings. FRA expects that activities to promote further awareness of grade crossing safety will be based on existing best practices and such efforts will be implemented in a comprehensive manner through coordination with relevant stakeholders.

viii. Project Location: Applicants must include geospatial data for the project, as well as a map of the project's location. Geospatial data must be expressed in decimal degrees for latitude and longitude with at least five decimal places of precision. If the project includes a length of track or corridor development, the start and end coordinates for each corridor or segment must be provided. Milepost, railroad, and subdivision identifiers can also be provided but must be accompanied by corresponding latitudes and longitudes. For projects with multiple locations, the corresponding geospatial data must be included for each location, with individual columns for latitude and longitude, in table form as an attachment to the application. On the map, include the Congressional districts in which the project will take place.

ix. Grade Crossing Information: Cite specific US DOT National Grade Crossing Inventory information for each grade crossing to be addressed in the proposed application, including the US DOT grade crossing inventory number. Include latitude and longitude coordinates for each grade crossing location, the railroad that owns the infrastructure (or the crossing owner, if different from the railroad), the primary railroad operator, and the roadway at the crossing. To find US DOT grade crossing inventory number(s) and location(s), please visit: https://railroads.dot.gov/safety-data/fra-safety-data-reporting/crossing-inventory-data-search. For projects involving Pathway-Rail Grade Crossings that do not have US DOT grade crossing inventory numbers or data, please provide as much locational data as possible.

List the following details for each grade crossing involved in the application scope of work, either in the following table format within the Project Narrative or, if more space is needed, in a separate, unlocked Excel file attachment (the table will not count against the 25-page Project Narrative page limit). Please include, to the best of the applicant's ability, specific US DOT National Grade Crossing Inventory information that may combine information requested under both this section and E.2.a.viii “Grade Crossing Information,” including:

a. US DOT grade crossing inventory number;

b. The proposed improvement requested in the application, using “new, separated, closed, or improved” to describe proposed improvement (such as gate additions, lights, etc.);

c. The primary railroad operator;

d. The railroad that owns the infrastructure (or the crossing owner, if different from the railroad); and

e. The roadway at the crossing with location latitude and longitude coordinates.

Example Table 1. In Project Narrative or attached as an appendix in unlocked Excel file format:

* Example Table 1—Grade Crossing Information for Proposed Project
US DOT grade crossing inventory # | Proposed improvement | Rail operator(s) | Railroad owner | Latitude coordinates (at least five decimal places of precision) | Longitude coordinates (at least five decimal places of precision)

x. Safety Benefit Data: Applicants are strongly encouraged to submit safety justifications for the project that rely on standardized, objective safety metrics and data, if available, including data from sources such as: GradeDec.Net; National Risk Index; 49 CFR part 234; safety metrics found in Appendix D of 49 CFR part 222; the FRA crossing incident dashboard (FRA Safety Data & Reporting | FRA (dot.gov)); or other relevant safety data or metrics. FRA will analyze data for each grade crossing, including information and data detailing the history of each crossing's incident history for the past five calendar years (2019-2023), to demonstrate the existing level of risk for each grade crossing proposed for improvement, as well as other tools and measures to better inform selection evaluation.¹⁵

¹⁵ Applicants can review the history of highway-rail crossing incidents relevant to their project on FRA's public safety website: https://safetydata.fra.dot.gov/OfficeofSafety/publicsite/crossing/crossing.aspx or https://data.transportation.gov/dataset/Highway-Rail-Grade-Crossing-Accident-Data-Form-57-/aeeh-bp8c/explore.

viii. Evaluation and Selection Criteria: The applicant must include a thorough discussion of how the proposed project meets the evaluation and selection criteria. As described in section E, FRA will evaluate applications based on project readiness, technical merit, and project benefits, and will consider how the applicant's project aligns with the Administration Priorities. If an application does not sufficiently address the evaluation criteria and the selection criteria, it is unlikely to be a competitive application. Applicants are expected to follow the directions and format requested in this NOFO, and adherence to these directions will be considered in evaluations. Applicants are encouraged to include quantifiable railroad data, such as information on delay, failure or safety incidents, daily train movement, or similar metrics, and should include qualitative data on accessibility improvements to either new or existing assets. To the extent feasible, such railroad metrics should be provided and analyzed discretely for intercity passenger rail and, if applicable, Commuter Rail Passenger Transportation and freight rail transportation services involved in the proposed project. For more information on performance metrics see FRA's Metrics and Minimum Standards for Intercity Passenger Rail Service, available at: https://railroads.dot.gov/elibrary/metrics-and-standards-final-rule-november-16-2020.

xiii. Project Implementation and Management: Applicants must describe proposed project implementation and project management arrangements. Include descriptions of the expected arrangements for project contracting (construction, maintenance, and operation), contract oversight and control, change-order management, risk management, and conformance to federal requirements for project progress reporting (see FRA Reports, available at: https://www.fra.dot.gov/Page/P0274). Further, applicants must provide their plan for taking affirmative steps to employ small businesses consistent with 2 CFR 200.321. Describe experience in managing and overseeing similar projects; the technical qualifications and demonstrated experience of key personnel proposed to lead and perform the technical efforts; and the qualifications of the primary and supporting organizations to fully and successfully execute the proposed project within the proposed timeframe and budget, including a discussion of the factors in 2 CFR 200.206(b) and the proposed approach to assessing and mitigating project risk.

b. Additional Application Elements

Applicants must submit the following documents and forms. Note, the Standard OMB Forms needed for the electronic application process are available at: www.Grants.gov.

i. A Statement of Work (SOW), addressing the scope, project budget, estimated project schedule, and performance measures, for the proposed project if it were selected for award. The applicant should include sufficient detail in those documents so that FRA can understand the expected outcomes of the proposed work to be performed and can monitor progress toward completing project tasks and deliverables during a prospective grant's period of performance. Applicants are expected to include Articles 4-7 of Attachment 2: Project Specific Terms and Conditions, at a minimum.¹⁶ Applications that do not follow this format may be considered incomplete and may not be reviewed. In addition, FRA encourages applicants submitting planning projects to look at the planning-specific Statement of Work template available here: https://railroads.dot.gov/elibrary/RCE-Grant-Project-Planning-SOW-sample.

¹⁶ https://railroads.dot.gov/grants-loans/fra-discretionary-grant-agreements.

When preparing the budget, the total cost of a project must be based on the best available information as indicated in cited references that include engineering studies, economic feasibility studies, environmental analyses, and information on the expected use of equipment or facilities. Applicants must include annual budget estimates in year of expenditure dollars for the duration of the project.

ii. Environmental compliance documentation, as applicable, if a website link to such documentation is not provided in the Project Narrative.

Applicants should explain what Federal (and, if appropriate, State, Tribal, and local) environmental compliance and permitting requirements have been completed. Such requirements include NEPA and other Federal, State, Tribal, and local environmental permitting requirements, if applicable. For all other Federal, State, Tribal, and local permitting requirements, the applicant should describe which permits apply, the status of those reviews, and the expected timeline for completion. If the NEPA process is complete, an applicant should indicate the date of completion, and provide a website link or other reference to the documents demonstrating compliance with NEPA, which might include a final Categorical Exclusion determination documentation, Finding of No Significant Impact, or Record of Decision. If the NEPA process is not yet underway, the application should state this. If the NEPA process is underway, but not complete, the application should detail the type of NEPA review underway, where the project is in the process, and indicate the anticipated date of completion of all NEPA and other environmental requirements. Additional information regarding FRA's environmental processes and requirements is located at https://fra.dot.gov/environment.

iii. Draft or finalized agreement required under 49 U.S.C. 22905(c)(1), if applicable. Provide information about the status of agreements with infrastructure owners. FRA encourages early cooperation between applicants and any relevant infrastructure owners. Under section 22905(c)(1), a grant applicant must have entered into a written agreement with a railroad that owns rights-of-way to be used by the project (referred to as the 22905 Agreement) prior to grant obligation. If the agreement is complete at the time of the application, an applicant should indicate the agreement's effective date, and provide a website link or attach the agreement as part of the application. Applicants are also encouraged to provide draft agreements. The written agreement between the grantee and the railroad should describe use and ownership, including any compensation for such use; assurances regarding the adequacy of infrastructure capacity to accommodate both existing and future freight and passenger operations; an assurance by the railroad that collective bargaining agreements with the railroad's employees including terms regulating the contracting of work will remain in full force and effect according to their terms for work performed by the railroad on the railroad transportation corridor; and an assurance that the grantee complies with liability requirements consistent with 49 U.S.C. 28103. For additional guidance see the FRA Answers to Frequently Asked Questions about Rail Improvement Grant Conditions under 49 U.S.C. 22905(c)(1): https://railroads.dot.gov/elibrary/frequently-asked-questions-about-rail-improvement-grant-conditions-under-49-usc-ss-22905c1.

iv. SF 424—Application for Federal Assistance.

v. SF 424A—Budget Information for Non-Construction or SF 424C—Budget Information for Construction.

vi. SF 424B—Assurances for Non-Construction or SF 424D—Assurances for Construction.

vii. FRA F30—Certification Regarding Debarment, Suspension and Other Responsibility Matters, Drug-Free Workplace Requirements and Lobbying, located at https://railroads.dot.gov/elibrary/fra-f-30-certifications-regarding-debarment-suspension-and-other-responsibility-matters.

viii. FRA F 251—Applicant Financial Capability Questionnaire, located at https://railroads.dot.gov/elibrary/fra-f-251.

ix. SF LLL—Disclosure of Lobbying Activities.

Forms needed for the electronic application process are at www.Grants.gov.

c. Post-Selection Requirements

See section F(2) of this notice for post-selection requirements.

3. Unique Entity Identifier and System for Award Management (SAM)

To apply for funding through Grants.gov, applicants must be properly registered in SAM before submitting an application, provide a valid unique entity identifier in its application, and continue to maintain an active SAM registration all as described in detail below. Complete instructions on how to register and submit an application can be found at www.Grants.gov. Registering with Grants.gov is a one-time process; however, it can take up to several weeks for first-time registrants to receive confirmation and a user password. FRA recommends that applicants start the registration process as early as possible to prevent delays that may preclude submitting an application package by the application deadline. Applications will not be accepted after the due date. Delayed registration is not an acceptable justification for an application extension.

FRA may not make a grant award to an applicant until the applicant has complied with all applicable SAM requirements, and if an applicant has not fully complied with the requirements by the time the federal awarding agency is ready to make a federal award, the federal awarding agency may determine that the applicant is not qualified to receive a federal award and use that determination as a basis for making a federal award to another applicant. Late applications, including those that are the result of a failure to register or comply with Grants.gov applicant requirements in a timely manner, will not be considered. If an applicant has not fully complied with the requirements by the submission deadline, the application will not be considered. To submit an application through Grants.gov, applicants must follow the directions below in this subsection.

a. Register With the SAM at www.SAM.gov

All applicants for federal financial assistance must maintain current registrations in the SAM database. An applicant must be registered in SAM to successfully register in Grants.gov. The SAM database is the repository for standard information about federal financial assistance applicants, grantees, and subrecipients. Organizations that have previously submitted applications via Grants.gov are already registered with SAM, as it is a requirement for Grants.gov registration. Please note, however, that applicants must update or renew their SAM registration at least once per year to maintain an active status. Therefore, it is critical to check registration status well in advance of the application deadline. If an applicant is selected for an award, the applicant must maintain an active SAM registration with current information throughout the period of the award, including information on a grantee's immediate and highest-level owner and subsidiaries, as well as on all predecessors that have been awarded a federal contract or grant within the last three years, if applicable. Information about SAM registration procedures is available at www.SAM.gov.

b. Obtain a Unique Entity Identifier

On April 4, 2022, the Federal government discontinued using DUNS numbers. The DUNS Number was replaced by a new, non-proprietary identifier that is provided by the System for Award Management (SAM.gov). This new identifier is called the Unique Entity Identifier (UEI), or the Entity ID. To find or request a Unique Entity Identifier, please visit: www.SAM.gov.

c. Create a Grants.gov Username and Password

Applicants must complete an Authorized Organization Representative (AOR) profile on www.Grants.gov and create a username and password. Applicants must use the organization's UEI to complete this step. Additional information about the registration process is available at: https://www.grants.gov/applicants/applicant-registration.

d. Acquire Authorization for Your AOR From the E-Business Point of Contact (E-Biz POC)

The E-Biz POC at the applicant's organization must respond to the registration email from Grants.gov and login at www.Grants.gov to authorize the applicant as the AOR. Please note there can be more than one AOR for an organization.

e. Submit an Application Addressing All Requirements Outlined in This NOFO

If an applicant has trouble at any point during this process, please call the Grants.gov Customer Center Hotline at 1-800-518-4726, 24 hours a day, 7 days a week (closed on Federal holidays). For information and instructions on each of these processes, please see instructions at: https://www.grants.gov/support.

4. Submission Dates and Times

Applicants must submit complete applications to www.Grants.gov no later than 11:59 p.m. EST, September 23, 2024. Applicants will receive a system-generated acknowledgement of receipt. FRA reviews www.Grants.gov information on dates/times of applications submitted to determine timeliness of submissions. Late applications will be neither reviewed nor considered, no exceptions. To apply for funding under this announcement, all applicants are required to be registered as an organization with Grants.gov. Applicants are strongly encouraged to apply early to ensure all materials are received before this deadline.

To ensure fair competition for limited discretionary funds, no late submissions will be reviewed for any reason, including: (1) failure to complete the Grants.gov registration process before the deadline; (2) failure to follow Grants.gov instructions on how to register and apply as posted on its website; (3) failure to follow all the instructions in this NOFO; and (4) technical issues experienced with the applicant's computer or information technology environment.

5. Intergovernmental Review

Intergovernmental Review is required for this program. Applicants must contact their State Single Point of Contact to comply with their State's process under Executive Order 12372.

6. Funding Restrictions

Consistent with 2 CFR 200.458, as applicable, FRA will only approve pre-award costs if such costs are incurred pursuant to the negotiation and in anticipation of the grant agreement and if such costs are necessary for efficient and timely performance of the scope of work.¹⁷ Under 2 CFR 200.458, grant recipients must seek written approval from FRA for pre-award activities to be eligible for reimbursement under the grant. Activities initiated prior to the execution of a grant or without FRA's written approval may be ineligible for reimbursement or matching contribution. Cost sharing or matching may be used only for authorized Federal award purposes.

¹⁷ For more information on pre-award costs, see FRA Answers to Frequently Asked Questions about Pre-Award Authority, available at: https://railroads.dot.gov/elibrary/federal-railroad-administration-answers-frequently-asked-questions-about-pre-award.

Applicants may count costs incurred for Preliminary Engineering costs on Highway-Rail and Pathway-Rail Grade Crossing Projects as part of the total project costs. Consistent with 49 U.S.C. 22909(g), such costs are eligible as non-federal share or reimbursement, even if they were incurred before project selection for award. Such costs must have been incurred no earlier than November 15, 2021, and must be otherwise compliant with 2 CFR part 200 and the requirements of this NOFO.

7. Other Submission Requirements

Please use generally accepted formats such as .pdf, .doc, .docx, .xls, .xlsx and .ppt, when uploading attachments. While applicants may embed picture files, such as .jpg, .gif, and .bmp, in document files, applicants should not submit attachments in these formats. Additionally, the following formats will not be accepted: .com, .bat, .exe, .vbs, .cfg, .dat, .db, .dbf, .dll, .ini, .log, .ora, .sys, and .zip.

E. Application Review Information

1. Criteria

a. Eligibility and Completeness

FRA will first screen each application for applicant and project eligibility (eligibility requirements are outlined in section C of this NOFO), completeness (application documentation and submission requirements are outlined in section D of this NOFO), and the 20 percent minimum non-federal match.

b. Evaluation Criteria

FRA will evaluate all eligible and complete applications using the evaluation criteria outlined in this section to determine project readiness, technical merit, and project benefits.

i. Project Readiness:

In evaluating Project Readiness, FRA will evaluate project and applicant risk based on the applicant's preparedness and capacity to implement the proposed project, including whether the applicant is reasonably equipped to begin the capital or planning project in a timely manner to meet its proposed schedule. FRA will evaluate whether the applicant is able to meet project milestones and use Federal funds efficiently to deliver the proposed project.¹⁸

¹⁸ Additional information on DOT's Project Readiness checklist can be found here: https://www.transportation.gov/grants/dot-navigator/project-readiness-checklist-dot-discretionary-grant-applicants.

FRA will evaluate the application for the degree to which—

(A) The application demonstrates strong project readiness, evidenced by status of required NEPA actions and environmental permitting readiness (if applicable);

(B) The status and timeline of agreements, such as an agreement required under 49 U.S.C. 22905(c)(1), necessary for the legal, financial, and technical capacity to complete the project as proposed, are sufficiently developed;

(C) The application identifies the appropriate Lifecycle Stage(s) for the proposed project, demonstrates that the project has completed or will complete any preceding Lifecycle Stage(s), and the project is able to complete all requirements of the identified Lifecycle Stage(s); and

(D) Project partner coordination and commitments, including letters of support, agreements, and funding, are secured or able to be secured without undue delay.

ii. Technical Merit:

In evaluating Technical Merit, FRA will evaluate the degree to which the application, statement of work, schedule and budget are reasonable and appropriate to achieve the expected outcomes, commitment of necessary resources and workforce to deliver the project, and the proposed project elements are appropriate for the project funding request. FRA will also consider applicant risk, including the applicant's past performance in developing and delivering similar projects.

FRA will evaluate application information for the degree to which—

(A) The tasks and subtasks outlined in the SOW, project budget, and estimated project schedule are appropriate to achieve the expected outcomes of the proposed project;

(B) The technical qualifications and experience of key personnel the applicant proposes to lead and perform the technical efforts, including the qualifications of the primary and supporting organizations, demonstrates the ability to fully and successfully execute the proposed project within the proposed time frame and budget;

(C) The project is identified in the freight investment plan component of a state freight plan, a state rail plan, a state highway-rail grade crossing action plan, a state freight plan, or other equivalent document;

(D) The project will use innovative technologies, innovative design and construction techniques, or construction materials that reduce greenhouse gas emissions;

(E) The project will use financial support from impacted rail carriers; and

(F) The project will improve the mobility of multiple modes of transportation, including ingress and egress from freight facilities, or users of nonvehicular modes of transportation such as pedestrians, bicycles, and public transportation.

iii. Project Benefits:

FRA will evaluate application information for the extent to which the proposed project—

(A) Improves safety at Highway-Rail or Pathway-Rail Grade Crossings;

(B) Proposes to grade separate, eliminate, or close one or more Highway-Rail or Pathway-Rail Grade Crossings;

(C) Improves the mobility of both people and goods;

(D) Reduces emissions, protects the environment, and provides community benefit (including noise reduction);

(E) Improves access to emergency services;

(F) Improves access to communities;

(G) Provides economic benefit; and

(H) Uses contracting incentives to employ local labor, to the extent permissible under federal law.

For each evaluation criterion—Project Readiness, Technical Merit, and Project Benefits—FRA will evaluate whether the application demonstrates level of risk or responsiveness, as applicable, as described in the rubrics below.

For each merit criterion, FRA will use rubric ratings with applied criteria to evaluate whether the applications meet the defined thresholds:

Merit Criteria Ratings—Project Readiness

For the Project Readiness Criteria described in section E(B)(i), FRA will evaluate the application's responsiveness to the criteria, including an assessment of supporting justifications, and assign a cumulative Project Readiness risk rating.

Unacceptable | High risk | Medium risk | Low risk
Application provides limited or no information necessary to assess the project readiness criteria; application does not demonstrate support, progress, or completion of required Lifecycle Stage(s) pre-requisites; or application contains one or more significant barriers that would prevent project delivery | Application provides insufficient information to assess the project readiness criteria; application does not demonstrate sufficient support, progress, or completion of required Lifecycle Stage(s) pre-requisites but indicates risk to advancing the project without foreseeable delays; or application contains a barrier that would likely prevent project delivery in any of these areas | Application provides sufficient information to assess the project readiness criteria; demonstrates support, progress, or completion on one or more required Lifecycle Stage(s) pre-requisites, but indicates some risk to advancing the project in a timely manner; and the application does not contain a barrier that would likely prevent project delivery in any of these areas | Application provides thorough and complete information and evidence to assess the project readiness criteria, and demonstrates strong support, progress, or completion on required Lifecycle Stage(s) pre-requisites, and indicates minimal risk to advancing the project in a timely manner; and application does not contain a barrier that would likely prevent project delivery in any of these areas.

Merit Criteria Ratings—Technical Merit

For the Technical Merit Criteria described in section E(B)(ii), FRA will evaluate the application's responsiveness to the criteria, including an assessment of supporting justifications, and assign a cumulative technical merit rating.

Unacceptable | Acceptable | Responsive | Highly responsive
Application provides limited or no information necessary to assess the technical merit criteria, or application demonstrates one or more significant technical challenges that would prevent the applicant from delivering the project | Application contains insufficient information to assess one or more of the technical merit criteria, or application demonstrates technical challenges that could affect project delivery, but not prevent the applicant from delivering the project | Application provides sufficient information and evidence to assess the technical merit criteria and demonstrates that the applicant can deliver the project with minimal technical challenges | Application provides thorough and complete information and evidence to assess the technical merit criteria, and sufficiently demonstrates that the project can be successfully delivered by the applicant.

Merit Criteria Ratings—Project Benefits

For the Project Benefits Criteria described in section E(B)(iii), FRA will evaluate the application's responsiveness to the criteria, including an assessment of supporting justifications, and assign a cumulative Project Benefits rating.

Unacceptable | Acceptable | Responsive | Highly responsive
Application provides insufficient information necessary to assess the project benefits criteria, and does not demonstrate that the project will achieve its intended benefits | The application contains limited information to assess the project benefits criteria; or the project is not likely to achieve all of its intended benefits | Application provides sufficient information to assess the project benefits criteria, and adequately demonstrates that the project will likely achieve its intended benefits | Application provides thorough and complete information and evidence to assess the project benefits criteria, and sufficiently demonstrates that the project will achieve its intended benefits.

In addition to the ratings described above, FRA will also apply the selection preferences described in section E(C)(i) and consider the Administration Priorities described in section E(2)(c)(ii).

c. Selection Criteria

After completing the merit review, FRA will apply the selection criteria and consider the Administration Priorities in this section.

i. FRA will give preference to eligible projects that—

(A) result in one or more grade separated crossings;

(B) close grade crossings through Track Relocation; or

(C) result in corridor-wide grade crossing improvements.¹⁹

¹⁹ FRA considers corridor-wide grade crossing improvements to be projects that directly improve a series of linked, consecutive grade crossings.

ii. Administration Priorities

FRA will consider how projects address the following key Administration Priorities:

Safety: FRA will assess the project's ability to foster a safe transportation system for the movement of goods and people, consistent with DOT's strategic goal to reduce transportation-related fatalities and serious injuries across the transportation system. Such considerations will include, but are not limited to, the extent to which the project improves and upgrades infrastructure to achieve a higher level of safety, reduces incidences of rail-related trespassing, upgrades infrastructure to achieve a higher level of safety, and uses an appropriately trained workforce. Overall, FRA expects that projects will provide positive safety benefits for all users and not negatively impact safety for all users.

Climate Change and Sustainability: FRA will assess the project's ability to reduce the harmful effects of climate change and anticipate necessary improvements to prepare for extreme weather events. Such considerations may include, but are not limited to, the extent to which the project reduces emissions, promotes energy efficiency, increases resiliency, incorporates evidence-based climate resilience measures or features, and avoids adverse environmental impacts to air or water quality, wetlands, and endangered species.

Applicants are encouraged to use the DOT Navigator Climate checklist in responding to this criterion. Applications that are rated highly on this criterion will be those that use data-driven and evidence-based methods to demonstrate that the project will:

• Significantly reduce GHG emissions in the transportation sector; and

• Incorporate evidence-based climate resilience measures or features.

Equity and Justice40: FRA will assess elements including how the project will create positive outcomes that will reduce, mitigate, or reverse how a community is experiencing disadvantage through increasing affordable transportation options, improving health or safety, reducing pollution, connecting Americans to good-paying jobs, fighting climate change, and/or improving access to nature, resources, transportation or mobility, and quality of life. FRA will consider the benefits and potential burdens a project may create, who would experience them and how the benefits and potential burdens will impact disadvantaged communities.

Applicants are strongly encouraged to use the FRA's Justice40 Rail Explorer Tool (https://usdot.maps.arcgis.com/apps/webappviewer/index.html?id=fd9810f673b64d228ae072bead46f703) to identify the rail infrastructure in their project and features of the surrounding community as the basis of their assessment. The FRA Justice40 Rail Explorer Tool is a rail-specific complement to the USDOT ETC Explorer and leverages the same methodology and metrics. The FRA Justice40 Rail Explorer Tool provides GIS information on existing rail infrastructure, communities, and pollution levels based on the proposed project's location, and applicants can thus use this tool to note how their project location scores across several different measures. Transportation disadvantaged communities experience burden, as a result of underinvestment in transportation, in the following five components: Transportation Insecurity, Climate and Disaster Risk Burden, Environmental Burden, Health Vulnerability, and Social Vulnerability.

Applicants are also encouraged to use Climate & Economic Justice Screening Tool (CEJST), a new tool by the White House Council on Environmental Quality (CEQ), that aims to help Federal agencies identify disadvantaged communities as part of the Justice40 initiative to accomplish the goal that 40% of benefits from certain federal investment reach disadvantaged communities. Applicants should use CEJST to identify disadvantaged communities (Justice40 communities). Applicants are encouraged to use the USDOT Equitable Transportation Community (ETC) Explorer to understand how their community or project area is experiencing disadvantage related to lack of transportation investments or opportunities. Through understanding how a community or project area is experiencing transportation-related disadvantage, applicants are able to address how the benefits of a project will reverse or mitigate the burdens of disadvantage and demonstrate how the project will address challenges and accrued benefits.

Workforce Development, Job Quality, and Wealth Creation: FRA will assess how the project will create good-paying, safe jobs with free and fair choice to join a union including through the use of a project labor agreement, promote investments in high-quality workforce development programs, adopt local and economic hiring preferences for the project workforce, and promote local inclusive economic and entrepreneurship programs.

For Administration Priorities, FRA will consider the application's responsiveness to the criteria, and will result in a rating of “Non-responsive, “Acceptable,” “Responsive,” or “Highly Responsive” as described in the rubric below. Applicants do not need to respond to all of the Administration Priorities if the criterion is not applicable to the proposed project.

Administration Priorities

For the Administration Priorities Criteria described in section E(C)(ii), FRA will consider the application's responsiveness to the criteria, including an assessment of supporting justifications.

Non-responsive | Acceptable | Responsive | Highly responsive
Application contains insufficient information to assess any of the Administration Priorities, or project is inconsistent with one or more of the Administration Priorities | Application contains limited information that is supported by some evidence, but primarily described qualitatively, that the project is consistent with at least one of the Administration Priorities | Application contains sufficient information that is adequately supported by both quantitative and qualitative evidence that the project has clear and direct benefits in at least one of the Administration Priorities | Application contains thorough and complete information that is strongly supported by both quantitative and qualitative evidence that the project has clear, direct, and significant benefits in one or more of the Administration Priorities, and is not inconsistent with any of the Administration Priorities.

Upon completion of all reviews, FRA will finalize an Overall Rating for each application. This rating will be a combination of the results of the three Merit Criteria reviews, specifically Project Readiness, Project Benefits, and Technical Merit criteria ratings as described in sections E(B)(i)-E(B)(iii); and the Administration Priorities as described in section E(c)(ii). Provided in the Overall Rating Rubric below, each rating has defined parameters to which each application will be assessed.

Overall Rating
Not recommended | Acceptable | Recommended | Highly recommended
The application received an overall score of not recommended based on Project Readiness, Technical Merit, and Project Benefits ratings, and consideration of Administration Priorities | The application received an overall score of acceptable based on Project Readiness, Technical Merit, and Project Benefits ratings, and consideration of Administration Priorities | The application received an overall score of recommended based on Project Readiness, Technical Merit, and Project Benefits ratings, and has clear and direct benefits in one of the Administration Priorities | The application received an overall score of highly recommended based on Project Readiness, Technical Merit, and Project Benefits ratings, and has clear, direct, and significant benefits in one or more of the Administration Priorities.

The evaluation process may draw upon subject matter experts within FRA Division offices whose expertise is relevant to understanding the application's responsiveness to the program criteria, such as assessing the applicant's capacity to successfully deliver the project in compliance with applicable federal requirements based on factors including, but not limited to, the recipient's experience working with federal agencies, previous experience with DOT discretionary grant awards and/or the technical experience and resources dedicated to the project. Finally, in determining the allocation of program funds, FRA may also consider geographic diversity, diversity in the size of the systems receiving funding, and the applicant's receipt of other competitive awards.

2. Review and Selection Process

FRA will conduct a five-part application review process, as follows:

• Intake and Eligibility Phase: Screen applications for applicant and project eligibility, completeness, and the minimum match (completed by the Evaluation Management and Oversight Team, or “EMOT,” comprised of FRA program review directors who manage the pre-award process);

• Evaluation Review Phase: Evaluate remaining applications against the statutory technical merit criteria, project benefit criteria, project readiness and the applicant's ability (based on past performance and relevant project factors) to develop and deliver similar projects, and alignment with Administration Priorities (completed by technical merit review panels consisting of FRA and other Department of Transportation (DOT) staff). The EMOT will compile the results of the Evaluation Review Phase consistent with the RCE Program set-asides and selection preferences. After considering all FRA reviews under the statutory criteria, applications will be assigned an overall rating of “Highly Recommended,” “Recommended,” “Acceptable,” or “Not Recommended”;

• Steering Committee Phase: The Steering Committee is comprised of Senior Directors with the Office of Railroad Development, which may also include senior leadership from the Railroad Office of Safety and other relevant offices. The EMOT briefs the Steering Committee on all rated applications, and the Steering Committee may request more information from FRA offices whose expertise may be relevant. The Steering Committee provides strategic direction, in line with program goals outlined in this NOFO, on the development of materials and approach for the Senior Review Team (SRT) briefing;

• Senior Review Phase: The SRT, which may include senior leadership from the Office of the Secretary and FRA, will review and apply selection criteria, and recommend an initial selection of projects for the FRA Administrator's review; and

• Selection and Award Phase: The FRA Administrator will recommend awards for the Secretary or his designee's review and approval.

3. Reporting Matters Related to Integrity and Performance

Before making a federal award with a total amount of federal share greater than the simplified acquisition threshold per 2 CFR 200.1 and 2 CFR 200.320, FRA will review and consider any information about the applicant that is in the designated integrity and performance system accessible through SAM (currently the Federal Awardee Performance and Integrity Information System (FAPIIS)). See 41 U.S.C. 2313.

An applicant, at its option, may review information in the designated integrity and performance systems accessible through SAM and comment on any information about itself that a federal awarding agency previously entered and is currently in the designated integrity and performance system accessible through SAM.

FRA will consider any comments by the applicant, in addition to the other information, in making a judgment about the applicant's integrity, business ethics, and record of performance under federal awards when completing the review of risk posed by applicants as described in 2 CFR 200.206

F. Federal Award Administration Information ²⁰

²⁰ More information on FRA Discretionary Grant Agreements can be found at: https://railroads.dot.gov/grants-loans/fra-discretionary-grant-agreements.

1. Federal Award Notices

FRA will announce applications selected for funding in a press release and on FRA's website after the application review period. This announcement is FRA's notification to successful and unsuccessful applicants alike. Following this announcement, FRA will contact the point of contact listed in the SF 424 to initiate negotiation of a project-specific grant agreement. This notification is not an authorization to begin proposed project activities. FRA requires satisfaction of applicable requirements by the applicant and a formal agreement signed by both the grantee and FRA, including an approved scope, schedule, and budget, before obligating the grant.

2. Administrative and National Policy Requirements

In connection with any program or activity conducted with or benefiting from funds awarded under this notice, grantees of funds must comply with all applicable requirements of federal law, including, without limitation, the Constitution of the United States; the relevant authorization and appropriations, the conditions of performance, nondiscrimination requirements, and other assurances made applicable to the award of funds in accordance with regulations of DOT; and applicable federal financial assistance and contracting principles promulgated by the Office of Management and Budget. In complying with these requirements, grantees must ensure that no concession agreements are denied, or other contracting decisions made on the basis of speech or other activities protected by the First Amendment. If DOT determines that a grantee has failed to comply with applicable federal requirements, DOT may terminate the award of funds and disallow previously incurred costs, requiring the grantee to reimburse any expended award funds. The new FRA grant agreement consists of three parts: Attachment 1: Standard Terms and Conditions, Attachment 2: Project-Specific Terms and Conditions, and Terms and Conditions Exhibits.

Examples of administrative and national policy requirements include: 2 CFR part 200; procurement standards at 2 CFR part 200 subpart D, 2 CFR 1207.317, and 2 CFR 200.401; compliance with federal civil rights laws and regulations; disadvantaged business enterprises requirements; debarment and suspension requirements; drug-free workplace requirements; FRA's and OMB's Assurances and Certifications; the Americans with Disabilities Act (ADA); safety requirements; NEPA; environmental justice; compliance with 49 U.S.C. 24905(c)(2) for the duration of NEC Projects; and 2 CFR 200.315, governing rights to intangible property. Projects assisted with funds provided through the Maglev Grants Program are subject to 49 U.S.C. 5333(a). Unless otherwise stated in statutory or legislative authority, or appropriations language, all financial assistance awards follow the Uniform Administrative Requirements, Cost Principles, and Audit Requirements for Federal Awards at 2 CFR part 200 and 2 CFR part 1201.

Assistance under this NOFO is subject to the grant conditions in 49 U.S.C. 22905, including labor protective arrangements that are equivalent to the protective arrangements established under section 504 of the Railroad Revitalization and Regulatory Reform Act of 1976 (45 U.S.C. 836) with respect to employees affected by actions taken in connection with the project to be financed in whole or in part by grants, subject to 49 U.S.C. 22905, the provision deeming operators as rail carriers and employers for certain purposes, and grantee agreements with railroad right-of-way owners for projects using railroad rights-of-way (see section D(2)(a)(viii)(A)(5)).²¹

²¹ More information on labor protections can be found here: https://railroads.dot.gov/elibrary/equivalent-labor-protections.

Projects selected under this NOFO for commuter rail passenger transportation for positive train control projects may be transferred to the Federal Transit Administration for grant administration at the Secretary's discretion. If such a project is transferred to the Federal Transit Administration, applicants will be required to comply with chapter 53 of title 49 of the United States Code.

Projects that have not sufficiently considered climate change and environmental justice in their planning, as determined by FRA, will be required to do so before receiving funds for construction, consistent with core policy goals of assessing these potential impacts. For example, see Executive Order 14008, Tackling the Climate Crisis at Home and Abroad (86 FR 7619), and Executive Order 14096, Revitalizing Our Nation's Commitment to Environmental Justice. In the grant agreement, recipients will be expected to describe activities they have taken or will take prior to obligation of construction funds to address climate change and environmental justice (EJ). (See Article 9 of FRA's Attachment 2: Project-Specific Terms and Conditions for a list of project activities that address climate change and environmental justice priorities, available at: https://railroads.dot.gov/sites/fra.dot.gov/files/2024-02/Attachment_2_Project_Specific_Terms_12.11.23_PDFa.pdf.) Activities that address climate change include, but are not limited to, demonstrating the project: will result in significant greenhouse gas emissions reductions; supports emissions reductions goals in a local/regional/state plan; improves disaster preparedness and resilience; incorporates resilience in its design; and primarily focuses on funding for state of good repair and clean transportation options, including public transportation, walking, biking, and micro-mobility. Activities that address environmental justice may include, but are not limited to: basing project design on consideration of community impacts; information gained from screening tools such as CEJST, EPA's EJ Screen, or other appropriate environmental and community impacts tools developed by a State agency; connecting transportation disadvantaged communities or other communities with environmental justice concerns based on information gained from either the screening tools noted above or FRA's Justice40 Rail Explorer Tool; conducting enhanced, targeted outreach to potentially affected communities, including disadvantaged communities; considering environmental justice in alternatives analysis and final project design; and supporting a modal shift in freight or passenger movement to reduce emissions or reduce induced travel demand.

Projects must consider and address equity and barriers to opportunity in their planning, as determined by FRA, and as a condition of receiving construction funds, consistent with Executive Order 13985, Advancing Racial Equity and Support for Underserved Communities Through the Federal Government (86 FR 7009). The grant agreement should include the grantee's description of activities it has taken or will take prior to obligation of construction funds that address equity and barriers to opportunity. These activities may include, but are not limited to: completing an equity impact analysis for the project; completing a community needs assessment; adopting an equity and inclusion program/plan; conducting meaningful public engagement to ensure underserved communities are provided an opportunity to be involved in the planning process in a manner consistent with Title VI of the Civil Rights Act (Title VI); including investments that either redress past barriers to opportunity or that proactively create new connections and opportunities for underserved communities; hiring from local communities; improving access to or providing economic growth and wealth building opportunities for underserved, overburdened, or rural communities; or addressing historic or current inequitable air pollution or other environmental, health, or economic burdens and impacts. (See Article 10 of FRA's Attachment 2: Project-Specific Terms and Conditions for a list of project activities that address efforts to improve racial equity and reduce barriers to opportunity, available at: https://railroads.dot.gov/sites/fra.dot.gov/files/2024-02/Attachment_2_Project_Specific_Terms_12.11.23_PDFa.pdf.) While not a selection criterion to the extent the project includes or is part of a station area, DOT encourages project sponsors to consider how the submitted project could develop or facilitate economic development, including commercial and residential development that enhances the economic vitality and competitiveness of the surrounding neighborhoods and region.

To the extent that applicants have not sufficiently considered job quality and labor rights in their planning, as determined by the Department of Labor, applicants will be required to do so before receiving funds for construction, consistent with Executive Order 14025, Worker Organizing and Empowerment (86 FR 22829), and Executive Order 14052, Implementation of the Infrastructure Investment and Jobs Act (86 FR 64335). Specifically, the project planning activities and project delivery actions must support: strong labor standards and the free and fair choice to join a union, including project labor agreements, local hire agreements, distribution of workplace rights notices, and use of an appropriately trained workforce; support of high-quality workforce development programs, including registered apprenticeship, labor-management training programs, and supportive services to help train, place, and retain people in good-paying jobs and apprenticeships; and comprehensive planning and policies to promote hiring and inclusion for all groups of workers, including through the use of local and economic hiring preferences, linkage agreements with workforce programs that serve underrepresented groups, and proactive plans to prevent harassment. (See Article 11 of FRA's Attachment 2: Project-Specific Terms and Conditions for a list of project activities that address efforts to support good-paying jobs and strong labor standards, available at: https://railroads.dot.gov/sites/fra.dot.gov/files/2024-02/Attachment_2_Project_Specific_Terms_12.11.23_PDFa.pdf.)

a. Federal Contract Compliance

As a condition of grant award and consistent with Executive Order 11246, Equal Employment Opportunity (30 FR 12319, and as amended), all federally assisted contractors are required to make good faith efforts to meet the goals of 6.9 percent of construction project hours being performed by women, in addition to goals that vary based on geography for construction work hours and for work being performed by people of color. Under section 503 of the Rehabilitation Act of 1973 and its implementing regulations, affirmative action obligations for certain contractors include an aspirational employment goal of 7 percent workers with disabilities.

The U.S. Department of Labor's Office of Federal Contract Compliance Programs (OFCCP) is charged with enforcing Executive Order 11246, section 503 of the Rehabilitation Act, and the Vietnam Era Veterans' Readjustment Assistance Act of 1974. OFCCP has a Mega Construction Project Program through which it engages with project sponsors as early as the design phase to help promote compliance with non-discrimination and affirmative action obligations. OFCCP will identify projects that receive an award under this notice and are required to participate in OFCCP's Mega Construction Project Program from a wide range of Federally assisted projects over which OFCCP has jurisdiction and that have a project cost above $35 million. DOT will require project sponsors with costs above $35 million that receive awards under this funding opportunity to partner with OFCCP (if selected by OFCCP) as a condition of their DOT award.

b. Critical Infrastructure Security, Cybersecurity and Resilience

It is the policy of the United States to strengthen the security and resilience of its critical infrastructure against all hazards, including physical and cyber risks, consistent with Presidential Policy Directive 21—Critical Infrastructure Security and Resilience, and National Security Memorandum (NSM-5) on Improving Cybersecurity for Critical Infrastructure Control Systems. Each applicant selected for federal funding must demonstrate, prior to signing of the grant agreement, efforts to consider and address physical and cyber security risks relevant to the transportation mode and type and scale of the project. Projects that have not appropriately considered and addressed physical and cyber security and resilience in their planning, design, and project oversight, as determined by DOT and the Department of Homeland Security, will be required to do so before receiving funds.

c. Domestic Preference Requirements

As expressed in Executive Order 14005, Ensuring the Future Is Made in All of America by All of America's Workers (86 FR 7475), the executive branch should maximize, consistent with law, the use of goods, products, and materials produced in, and services offered in, the United States. Funds made available under this notice are subject to the domestic preference requirement in 49 U.S.C. 22905(a) (FRA Buy America) and the Build America, Buy America Act, Public Law 117-58, 70901-52. DOT expects all applicants to comply with the applicable domestic preference requirements. However, Major Projects applicants should include a domestic sourcing plan that provides details on the extent to which the materials covered by the plan are to be imported and the extent to which such materials can be sourced domestically. Applicants should also provide an explanation in the plan of the number of domestic jobs—temporary and permanent—that will be generated by the project and outline a plan to transition any foreign labor responsibilities to domestic jobs. Major Projects applicants may also request a waiver from certain Buy America requirements along with the domestic sourcing plan.

d. Civil Rights and Title VI

As a condition of a grant award, grant recipients should demonstrate that the recipient has a plan for compliance with civil rights obligations and nondiscrimination laws, including Title VI of the Civil Rights Act of 1964 and implementing regulations (49 CFR part 21), the Americans with Disabilities Act of 1990 (ADA), section 504 of the Rehabilitation Act, and all other civil rights requirements and accompanying regulations. This may include a current Title VI plan, completed Community Participation Plan, and a plan to address any legacy infrastructure or facilities that are not compliant with ADA standards. DOT's and FRA's Offices of Civil Rights may work with awarded grant recipients to ensure full compliance with federal civil rights requirements.

3. Reporting

a. Progress Reporting on Grant Activity

Each applicant selected for a grant will be required to comply with all standard FRA reporting requirements, including quarterly progress reports, quarterly federal financial reports, and interim and final performance reports, as well as all applicable auditing, monitoring, and close out requirements. Reports may be submitted electronically. Pursuant to 2 CFR 170.210, non-federal entities applying under this NOFO must have the necessary processes and systems in place to comply with the reporting requirements should they receive federal funding.

b. Additional Reporting

Applicants selected for funding are required to comply with all reporting requirements in the standard terms and conditions for FRA grant awards, including 2 CFR 180.335 and 2 CFR 180.350. If the total value of a selected applicant's active grants, cooperative agreements, and procurement contracts from all federal awarding agencies exceeds $10,000,000 for any period of time during the period of performance of this federal award, the applicant during that period of time must maintain the information reported to SAM and ensure it is made available in the designated integrity and performance system (currently the Federal Awardee Performance and Integrity Information System (FAPIIS)) about civil, criminal, or administrative proceedings described in paragraph 2 of this award term and condition. This is a statutory requirement under section 872 of Public Law 110-417, as amended (41 U.S.C. 2313). As required by section 3010 of Public Law 111-212, all information posted in the designated integrity and performance system on or after April 15, 2011, except past performance reviews required for federal procurement contracts, will be publicly available.

c. Performance and Program Evaluation

Recipients and subrecipients are also encouraged to incorporate program evaluation, including associated data collection activities from the outset of their program design and implementation, to meaningfully document and measure their progress towards meeting an agency priority goal(s). Title I of the Foundations for Evidence-Based Policymaking Act of 2018 (Evidence Act), Public Law 115-435 (2019) urges Federal awarding agencies and Federal assistance recipients and subrecipients to use program evaluation as a critical tool to learn, improve equitable delivery, and elevate program service and delivery across the program lifecycle. Evaluation means “an assessment using systematic data collection and analysis of one or more programs, policies, and organizations intended to assess their effectiveness and efficiency” (5 U.S.C. 311). Credible program evaluation activities are implemented with relevance and utility, rigor, independence and objectivity, transparency, and ethics (OMB Circular A-11, Part 6 Section 290).

For grant recipients receiving an award, evaluation costs are allowable costs (either as direct or indirect), unless prohibited by statute or regulation, and such costs may include the personnel and equipment needed for data infrastructure and expertise in data analysis, performance, and evaluation (2 CFR part 200).

d. Performance Reporting

Each applicant selected for funding must collect information and report on the project's performance using measures mutually agreed upon by FRA and the grantee to assess progress in achieving strategic goals and objectives. Examples of some rail performance measures for RCE funding are listed in the table below. The applicable measure(s) will depend upon the type of project.

Performance Measure Examples
Rail measures | Unit measure | Temporal | Primary administration goal | Secondary administration goal | Description
Reduced Grade Crossing Incidents | Count | Annual | Safety | Equity and Barriers to Opportunity | The number of grade crossing incidents at the grade crossings addressed by the project. Comparison of actual versus baseline and expected post-project number of incidents.
Reduced blocked crossing times | Count | Annual | Economic Strength | Safety | Average amount of time trains blocks the grade crossings addressed by the project. Comparison of actual performance versus baseline and expected post-project performance.
Improved emergency vehicle response times due to reduced blocked crossings | Time/Trip | Annual | Safety | Equity and Barriers to Opportunity | Measures how improvements impact emergency service vehicle response operations. Comparison of actual performance versus baseline and expected post-performance.
Increased percentage of freight transported by rail from commercial facility | Percentage | Annual | Economic Strength | Climate Change | Increased amount of freight transported compared to the baseline pre-project.
Average Daily Minutes of Delay | Average daily minutes of delay experience by vehicles | Minutes/Day | Economic Strength | Equity and Barriers to Opportunity | Traffic analysis can be performed to determine the average daily minutes of delay experienced by vehicles compared to baseline and expected post-project performance.

e. Program Evaluation

As a condition of grant award, grantees may be required to participate in an evaluation undertaken by DOT, or another agency or partner. The evaluation may take different forms, such as an implementation assessment across grant recipients, an impact or outcomes analysis of all or selected sites within or across grantees, or a benefit/cost analysis or assessment of return on investment. DOT may require applicants to collect data elements to aid the evaluation. As a part of the evaluation, and as a condition of award, grantees must agree to: (1) make records available to the evaluation contractor; (2) provide access to program records and any other relevant documents to calculate costs and benefits; (3) in the case of an impact analysis, facilitate access to relevant information as requested; and (4) follow evaluation procedures as specified by the evaluation contractor or DOT staff. For grant recipients, evaluation expenses are allowable costs (either as direct or indirect), unless prohibited by statute or regulation, and such expenses may include the personnel and equipment needed for data infrastructure and expertise in data analysis, performance, and evaluation (2 CFR part 200).

f. Project Signage and Public Acknowledgements

As a condition of grant award, for construction and non-construction projects, recipients may be required to post project signage and to include public acknowledgments in published and other collateral materials (e.g., press releases, marketing materials, website, etc.) satisfactory in form and substance to DOT, that identifies the nature of the project and indicates that “the project is funded by the Bipartisan Infrastructure Law.” In addition, recipients employing project signage are required to use the official Investing in America emblem in accordance with the official Investing in America Emblem Style Guide. Costs associated with signage and public acknowledgments must be reasonable and limited. Signs or public acknowledgments should not be produced, displayed, or published if doing so results in unreasonable cost, expense, or recipient burden. The recipient is encouraged to use recycled or recovered materials when procuring signs.

G. Federal Awarding Agency Contacts

For further information concerning this notice, please contact the FRA NOFO Support program staff via email at FRA-NOFO-Support@dot.gov. If additional assistance is needed, you may contact Ms. Jenny Zeng, Transportation Industry Analyst in FRA's Office of Rail Program Development, by email: Jenny.Zeng@dot.gov or telephone: 857-330-2481.

H. Other Information

All information submitted as part of or in support of any application must use publicly available data or data that can be made public and methodologies that are accepted by industry practice and standards, to the extent possible. If an application includes information the applicant considers to be a trade secret or confidential commercial or financial information, the applicant should do the following: (1) note on the front cover that the submission “Contains Confidential Business Information (CBI)”; (2) mark each affected page “CBI”; and (3) highlight or otherwise denote the CBI portions.

DOT regulations implementing the Freedom of Information Act (FOIA) are found at 49 CFR part 7 subpart C—Availability of Reasonably Described Records under the Freedom of Information Act, which sets forth rules for FRA to make requested materials, information, and records publicly available under FOIA. Unless prohibited by law and to the extent permitted under the FOIA, contents of applications and proposals submitted by successful applicants may be released in response to FOIA requests. DOT may share application information within DOT or with other Federal agencies if DOT determines that sharing is relevant to the respective program's objectives.

Issued in Washington, DC.
Jennifer Mitchell,
Deputy Administrator.

[FR Doc. 2024-15061 Filed 7-9-24; 8:45 am]

BILLING CODE 4910-06-P